DEPARTMENT OF HOMELAND SECURITY

[Docket No. DHS-2016-0056]

Meeting: Homeland Security Advisory Council

AGENCY: The Office of Partnership and Engagement, DHS.

ACTION: Notice of partially closed Federal Advisory Committee meeting.

SUMMARY: The Homeland Security Advisory Council (“Council”) will meet in person on Thursday, December 1, 2016. Members of the public may participate in person. The meeting will be partially closed to the public.

DATES: The Council will meet Thursday, December 1, 2016, from 10:15 a.m. to 4:30 p.m. EST. The meeting will be open to the public from 1:30 p.m. to 3:30 p.m. EST. Please note the meeting may close early if the Council has completed its business. The meeting will be closed to the public from 10:15 a.m. to 12:30 p.m. and 3:45 p.m. to 4:30 p.m. EST.

ADDRESSES: The meeting will be held at the Woodrow Wilson International Center for Scholars (“Wilson Center”), located at 1300 Pennsylvania Avenue NW., Washington, DC 20004. All visitors will be processed through the lobby of the Wilson Center. Written public comments prior to the meeting must be received by 5:00 p.m. EST on Monday, November 28, 2016, and must be identified by Docket No. DHS-2016-0056. Written public comments after the meeting must be identified by Docket No. DHS-2016-0056 and may be submitted by one of the following methods:

• Federal eRulemaking Portal: http://www.regulations.gov. Follow the instructions for submitting comments.

• Email: HSAC@hq.dhs.gov. Include Docket No. DHS-2016-0056 in the subject line of the message.

• Fax: (202) 282-9207

• Mail: Homeland Security Advisory Council, Attention Mike Miron, Department of Homeland Security, Mailstop 0445, 245 Murray Lane SW., Washington, DC 20528.

Instructions: All submissions received must include the words “Department of Homeland Security” and “DHS-2016-0056,” the docket number for this action. Comments received will be posted without alteration at http://www.regulations.gov, including any personal information provided.

Docket: For access to the docket to read comments received by the Council, go to http://www.regulations.gov, search “DHS-2016-0022,” “Open Docket Folder” and provide your comments.

FOR FURTHER INFORMATION CONTACT: Mike Miron at HSAC@hq.dhs.gov or at (202) 447-3135.

SUPPLEMENTARY INFORMATION: Notice of this meeting is given under Section 10(a) of the Federal Advisory Committee Act (FACA), Public Law 92-463 (5 U.S.C. Appendix), which requires each FACA committee meeting to be open to the public.

The Council provides organizationally independent, strategic, timely, specific, actionable advice, and recommendations to the Secretary of the Department of Homeland Security on matters related to homeland security. The Council is comprised of leaders of local law enforcement, first responders, federal, state, and local government, the private sector, and academia.

The Council will meet in an open session between 1:30 p.m. to 3:30 p.m. EST. The Council may review and deliberate on the Privatized Immigration Detention Facilities Subcommittee's interim report or final recommendations, and receive an update from the Countering Violent Extremism Subcommittee.

The Council will meet in a closed session from 10:15 a.m. to 12:30 p.m. EST, and from 3:45 p.m. to 4:30 p.m. EST, to receive sensitive operational information from senior officials on current counterterrorism threats, the Presidential transition, the Transportation and Security Administration, and cybersecurity.

Basis for Partial Closure: In accordance with Section 10(d) of the Federal Advisory Committee Act (FACA), the Secretary of the Department of Homeland Security has determined this meeting requires partial closure. The disclosure of the information relayed would be detrimental to the public interest for the following reasons:

The Council will receive closed session briefings from senior officials. These briefings will concern matters sensitive to homeland security within the meaning of 5 U.S.C. 552b(c)(7)(E) and 552b(c)(9)(B). The Council will receive operational counterterrorism updates on the current threat environment and security measures associated with countering such threats, including those related to aviation security programs, the Presidential transition, and cybersecurity.

The session is closed under 5 U.S.C. 552b(c)(7)(E) because disclosure of that information could reveal investigative techniques and procedures not generally available to the public, allowing terrorists and those with interests against the United States to circumvent the law and thwart the Department's strategic initiatives. In addition, the session is closed pursuant to 5 U.S.C. 552b(c)(9)(B) because disclosure of these techniques and procedures could frustrate the successful implementation of protective measures designed to keep our country safe.

Participation: Members of the public will have until 5:00 p.m. EST on Monday, November 28, 2016, to register to attend the Council meeting on December 1, 2016. Due to limited availability of seating, admittance will be on a first-come first-serve basis. Participants interested in attending the meeting can contact Mike Miron at HSAC@hq.dhs.gov or (202) 447-3135. You are required to provide your full legal name, date of birth, and company/agency affiliation. The public may access the facility via public transportation or use the public parking garages located near the Wilson Center. Directions to the Wilson Center can be found at: http://wilsoncenter.org/directions. Members of the public will meet at 1:00 p.m. EST at the Wilson Center's main entrance for sign in and escorting to the meeting room for the public session. Late arrivals after 1:30 p.m. EST will not be permitted access to the facility.

Facility Access: You are required to present a valid original government issued ID, to include a State Driver's License or Non-Driver's Identification Card, U.S. Government Common Access Card (CAC), Military Identification Card or Person Identification Verification Card; U.S. Passport, U.S. Border Crossing Card, Permanent Resident Card or Alien Registration Card; or Native American Tribal Document.

Information of Services for Individuals with Disabilities: For information on facilities or services for individuals with disabilities, or to request special assistance at the meeting, contact Mike Miron at HSAC@hq.dhs.gov or (202) 447-3135 as soon as possible.

Dated: November 10, 2016.
Sarah E. Morgenthau,
Executive Director, Homeland Security Advisory Council, DHS.

[FR Doc. 2016-27539 Filed 11-15-16; 8:45 am]

BILLING CODE P